DEPARTMENT OF COMMERCE

International Trade Administration

[A-122-863]

Large Diameter Welded Pipe From the Republic of Canada: Final Results of Antidumping Duty Administrative Review and Final Determination of No Shipments; 2021-2022

AGENCY: Enforcement and Compliance, International Trade Administration, Department of Commerce.

SUMMARY: The U.S. Department of Commerce (Commerce) determines that Evraz Inc. NA, Evraz Inc. NA Canada, and The Canadian National Steel Corporation (collectively, Evraz) and the 36 non-examined companies, for which a review was initiated, made sales of the subject merchandise at prices below normal value (NV), during the period of review (POR) May 1, 2021, through April 30, 2022. We also determine that Forterra Pipe & Precast, Ltd. (Forterra), Hyprescon Inc. (Hyprescon), and Canam Group Inc. (Canam) had no shipments of subject merchandise during the POR.

DATES: Applicable December 13, 2023.

FOR FURTHER INFORMATION CONTACT: Faris Montgomery, AD/CVD Operations, Office VIII, Enforcement and Compliance, International Trade Administration, U.S. Department of Commerce, 1401 Constitution Avenue NW, Washington, DC 20230; telephone: (202) 482-1537.

SUPPLEMENTARY INFORMATION:

Background

On June 6, 2023, Commerce published the Preliminary Results in the 2021-2022 administrative review of the antidumping duty order on large diameter welded pipe from Canada and invited interested parties to comment.¹ A summary of the events that occurred since publication of the Preliminary Results, as well as a full discussion of the issues raised by parties for these final results, are discussed in the Issues and Decision Memorandum.² Commerce conducted this administrative review in accordance with section 751(a)(1)(B) of the Tariff Act of 1930, as amended (the Act).

¹ See Large Diameter Welded Pipe from Canada: Preliminary Results of Antidumping Duty Administrative Review and Preliminary Determination of No Shipments; 2021-2022, 88 FR 37011 (June 6, 2023) (Preliminary Results), and accompanying Preliminary Decision Memorandum.

² See Memorandum, “Issues and Decision Memorandum for the Final Results of the 2021-2022 Antidumping Duty Administrative Review: Large Diameter Welded Pipe from Canada,” dated concurrently with, and hereby adopted by, this notice (Issues and Decision Memorandum).

Scope of the Order ³

³ See Large Diameter Welded Pipe from Canada: Antidumping Duty Order, 84 FR 18775 (May 2, 2019) (Order).

The merchandise covered by the Order is welded carbon and alloy steel pipe (other than stainless steel pipe), more than 406.4 mm (16 inches) in nominal outside diameter (large diameter welded pipe), regardless of wall thickness, length, surface finish, grade, end finish, or stenciling. Imports of the product are currently classifiable in the Harmonized Tariff Schedule of the United States (HTSUS) under subheadings 7305.11.1030, 7305.11.1060, 7305.11.5000, 7305.12.1030, 7305.12.1060, 7305.12.5000, 7305.19.1030, 7305.19.1060, 7305.19.5000, 7305.31.4000, 7305.31.6090, 7305.39.1000 and 7305.39.5000. While the HTSUS subheadings are provided for convenience and customs purposes, the written description of the scope of this Order is dispositive. For a complete description of the scope of the Order, see the Issues and Decision Memorandum.

Analysis of Comments Received

All issues raised in parties' case and rebuttal briefs are addressed in the Issues and Decision Memorandum and are listed in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

Based on our analysis of the comments received from interested parties, Commerce made certain changes to the margin calculations for Evraz. The Issues and Decision Memorandum contains descriptions of these changes.

Rate for Non-Examined Companies

The statute and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in an investigation, for guidance when determining the weighted-average dumping margin for companies which were not selected for individual examination in an administrative review. Under section 735(c)(5)(A) of the Act, the all-others rate is normally an amount equal to the weighted average of the estimated weighted- average dumping margins established for exporters and producers individually investigated, excluding rates that are zero, de minimis or determined entirely on the basis of facts available.

For these final results of review, we calculated a weighted-average dumping margin that is not zero, de minimis, or based entirely on facts available for Evraz, the sole mandatory respondent. Because this is the only weighted-average dumping margin determined in this review for an individually examined respondent, we are applying this rate to the non-examined companies under review consistent with section 735(c)(5)(A) of the Act.⁴

⁴ See Appendix II for a list of non-examined companies under review.

Determination of No Shipments

As noted in the Preliminary Results, we received no shipment claims from Forterra, Hyprescon, and Canam and preliminarily determined that Forterra, Hyprescon, and Canam had no shipments of subject merchandise during the POR.⁵ We received no comments from interested parties with respect to these claims. Therefore, because the record indicates that Forterra, Hyprescon, and Canam had no suspended entries of subject merchandise to the United States during the POR, we continue to find that Forterra, Hyprescon, and Canam had no shipments of subject merchandise during the POR.

⁵ See Preliminary Results, 88 FR at 37011.

Final Results of Review

We determine that the following weighted-average dumping margins exist for the period May 1, 2021, through April 30, 2022:

Producer/exporter | Weighted-average dumping margin (percent)
Evraz Inc. NA; Evraz Inc. NA Canada; The Canadian National Steel Corporation | 9.17
Non-Examined Companies ⁶ | 9.17

Disclosure

⁶ See Appendix II for a list of these companies.

We intend to disclose the calculations performed for Evraz within five days of the date of publication of this notice to parties in this proceeding, in accordance with 19 CFR 351.224(b).

Assessment Rates

Commerce has determined, and U.S. Customs and Border Protection (CBP) shall assess, antidumping duties on all appropriate entries in this review, in accordance with section 751(a)(2)(C) of the Act and 19 CFR 351.212(b). Commerce intends to issue assessment instructions to CBP no earlier than 35 days after the date of publication of these final results in the Federal Register. If a timely summons is filed at the U.S. Court of International Trade, the assessment instructions will direct CBP not to liquidate relevant entries until the time for parties to file a request for a statutory injunction has expired (i.e., within 90 days of publication).

Pursuant to 19 CFR 351.212(b)(1), because Evraz's weighted-average dumping margin is not zero or de minimis within the meaning of 19 CFR 351.106(c)(1), and Evraz reported the entered value of all its U.S. sales, we calculated importer-specific ad valorem duty assessment rates based on the ratio of the total amount of dumping calculated for the examined sales to the total entered value of those sales. Where an importer-specific assessment rate is zero or de minimis, we will instruct CBP to liquidate the appropriate entries without regard to antidumping duties.⁷

⁷ See Antidumping Proceedings: Calculation of the Weighted-Average Dumping Margin and Assessment Rate in Certain Antidumping Proceedings; Final Modification, 77 FR 8101, 8102 (February 14, 2012).

For entries of subject merchandise during the POR produced by Evraz for which it did not know its merchandise was destined for the United States, we intend to instruct CBP to liquidate such entries at the all-others rate (i.e., 12.32 percent) ⁸ if there is no rate for the intermediate company(ies) involved in the transaction.⁹

⁸ See Order, 84 FR at 18775-76.

⁹ See Antidumping and Countervailing Duty Proceedings: Assessment of Antidumping Duties, 68 FR 23954 (May 6, 2003).

For the companies which were not selected for individual examination, we will instruct CBP to assess antidumping duties at a rate equal to the weighted-average dumping margin determined for the non-examined companies in the final results of review.¹⁰

¹⁰ See section 751(a)(2)(C) of the Act.

For the companies with no shipments, i.e., Forterra, Hyprescon, and Canam, any suspended entries made under that exporter's case number (i.e., at that exporter's rate) will be liquidated at the all-others rate if there is no rate for the intermediate company(ies) involved in the transaction.

Cash Deposit Requirements

The following cash deposit requirements will be effective for all shipments of subject merchandise entered, or withdrawn from warehouse, for consumption on or after the publication date of the final results of this administrative review as provided by section 751(a)(2)(C) of the Act: (1) the cash deposit rate for the companies listed above will be equal to the weighted-average dumping margin established in the final results of the review; (2) for subject merchandise exported by a company not covered in this review but covered in a prior completed segment of the proceeding, the cash deposit rate will continue to be the company-specific rate published in the completed segment for the most recent period; (3) if the exporter is not a firm covered in this review or the less-than-fair-value (LTFV) investigation, but the producer is, then the cash deposit rate will be the rate established in the completed segment for the most recent period for the producer of the subject merchandise; (4) the cash deposit rate for all other producers or exporters will continue to be 12.32 percent ad valorem, the all-others rate established in the LTFV investigation.¹¹ These cash deposit requirements, when imposed, shall remain in effect until further notice.

¹¹ See Order, 84 FR at 18768.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these final results of administrative review in accordance with sections 751(a) and 777(i) of the Act, and 19 CFR 351.221(b)(5).

Dated: December 1, 2023.
Abdelali Elouaradia,
Deputy Assistant Secretary for Enforcement and Compliance.

Appendix I

List of Topics Discussed in the Issues and Decision Memorandum

I. Summary

II. Background

III. Scope of the Order

IV. Changes Since the Preliminary Results

V. Discussion of the Issues

Comment 1: Adjustments to Evraz's General and Administrative (G&A) Expense Calculation

Comment 2: Treatment of Materials as Co-Products in Evraz's Scrap Adjustment

Comment 3: Correction of Clerical Errors Generated from Missing Values

VI. Recommendation

Appendix II

Review-Specific Average Rate Applicable to Companies Not Selected for Individual Examination

1. Acier Profile SBB Inc.

2. Aciers Lague Steels Inc.

3. Amdor Inc.

4. BPC Services Group

5. Bri-Steel Manufacturing

6. Canada Culvert.

7. Cappco Tubular Products Canada Inc.

8. CFI Metal Inc.

9. Dominion Pipe & Piling

10. Enduro Canada Pipeline Services

11. Fi Oilfield Services Canada

12. Gchem Ltd.

13. Graham Construction

14. Groupe Fordia Inc.

15. Grupo Fordia Inc.

16. Hodgson Custom Rolling

17. Interpipe Inc.

18. K K Recycling Services

19. Kobelt Manufacturing Co.

20. Labrie Environment

21. Les Aciers Sofatec

22. Lorenz Conveying P

23. Lorenz Conveying Products

24. Matrix Manufacturing

25. MBI Produits De Forge

26. Nor Arc

27. Peak Drilling Ltd.

28. Pipe & Piling Sply Ltd.

29. Pipe & Piling Supplies

30. Prudental

31. Prudential

32. Shaw Pipe Protecction

33. Shaw Pipe Protection

34. Tenaris Algoma Tubes Facility

35. Tenaris Prudential

36. Welded Tube of Can Ltd.

[FR Doc. 2023-27356 Filed 12-12-23; 8:45 am]

BILLING CODE 3510-DS-P